DEPARTMENT OF HEALTH AND HUMAN SERVICES

Food and Drug Administration

21 CFR Part 73

[Docket Nos. FDA-2011-C-0344 and FDA-2011-C-0463]

CooperVision, Inc.; Filing of Color Additive Petitions

Correction

In proposed rule document 2011-16089 appearing on page 37690 in the issue of Tuesday, June 28, 2011, make the following correction:

On page 37690, in the first column, in the twelfth line from the bottom of the page, “methacryloxyethyl)phenstyamino]” should read “methacryloxyethyl)phenlyamino]”.

[FR Doc. C1-2011-16089 Filed 8-10-11; 8:45 am]

BILLING CODE 1505-01-D